DEPARTMENT OF COMMERCE

National Oceanic and Atmospheric Administration

Proposed Information Collection; Comment Request; Southeast Region Permit Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 6, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Anik Clemens, (727) 551-5611 or anik.clemens@noaa.gov.

SUPPLEMENTARY INFORMATION:

I. Abstract

This request is for revision of a currently approved information collection.

The collection consists of vessel and dealer permits that are part of the National Marine Fisheries Service (NMFS) program to manage fisheries in the Southeast Region. The fisheries in the Southeast Region are managed under the Magnuson-Stevens Fishery Conservation and Management Act (MSA) (16 U.S.C. 1801) and regulations at 50 CFR part 622, 50 CFR part 635 and 50 CFR part 300. NMFS issues permits to fishing vessels and dealers in order to collect information necessary to comply with domestic and international fisheries obligations, secure compliance with regulations, and disseminate necessary information.

This revision would amend the “Federal Permit Application for Vessels Fishing in the Exclusive Economic Zone (EEZ)” to add the collection of an International Maritime Organization/Lloyd's Registry (IMO/LR) number to the permit application for commercial HMS vessels ≥ 20 meters (65' 7”) in length that are obtaining or renewing a HMS limited access permit, including the Atlantic tuna longline, shark incidental, shark directed, swordfish incidental, swordfish directed, and swordfish handgear permits. The International Commission for the Conservation of Atlantic Tunas (ICCAT) approved a recommendation (13-13) for Contracting Parties to require commercial vessels ≥ 20 meters (65′ 7″) in length to obtain an IMO/LR number from IHS/Fairplay by no later than January 1, 2016. Permit applications that do not contain the required supporting documents will be considered incomplete.

This revision would also change the Report for the Deposit or Harvest of Aquacultured Live Rock by adding language to the instructions, specifically, “If not originally approved, then provide a new sample of rock,” adding the USCG documentation number or state registration number for the primary vessel the permit is used on, changing the wording in the instructions for the box describing the deposited material to include the “type and specific geographic origin” of the material, and adding a yes/no check box for whether a sample of the deposit material has been provided to NMFS.

II. Method of Collection

The requirement for commercial HMS vessels to obtain an IMO/LR number is accomplished by accessing a secure Internet automated system supported by IHS/Fairplay (http://www.imonumbers.lrfairplay.com/). Applicants may fill out and submit an application electronically. This automated system is available on a 7 day/24 hour basis, and the IMO/LR number is available at no additional charge to the permit holder. The Report for the Deposit or Harvest of Aquacultured Live Rock can be obtained online at the Southeast Region's Web site (http://sero.nmfs.noaa.gov/permits/permits.htm). This Web site allows the public to obtain a copy of this form, complete it electronically, download it, and print it out.

The Southeast Region's Web site also includes other forms under this collection, including the vessel permit application and the dealer permit application, which can be downloaded and completed electronically, and printed. There is also an option now to complete a vessel permit application online and submit it online, for certain fisheries. All other permitting requirements are currently still paper forms.

III. Data

OMB Control Number: 0648-0205.

Form Number: None.

Type of Review: Regular submission (revision of a currently approved collection).

Affected Public: Businesses or other for-profit organizations; individuals or households.

Estimated Number of Respondents: 13,664.

Estimated Time per Response: 30 minutes.

Estimated Total Annual Burden Hours: 6,172.

Estimated Total Annual Cost to Public: $539,949.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sarah Brabson,
NOAA PRA Clearance Officer.

[FR Doc. 2015-10458 Filed 5-4-15; 8:45 am]

BILLING CODE 3510-22-P